DEPARTMENT OF COMMERCE

National Oceanic and Atmospheric Administration

[I.D. 061303A]

Incidental Take of Marine Mammals; Bottlenose Dolphins and Spotted Dolphins

AGENCY: National Marine Fisheries Service (NMFS), National Oceanic and Atmospheric Administration (NOAA), Commerce.

ACTION: Notice of issuance of letters of authorization.

SUMMARY: In accordance with the Marine Mammal Protection Act (MMPA) and implementing regulations, notification is hereby given that 4 letters of authorization (LOAs) to take bottlenose and spotted dolphins incidental to oil and gas structure removal activities were issued.

ADDRESSES: The applications and letters are available for review in the following offices: Office of Protected Resources, NMFS, 1315 East-West Highway, Silver Spring, MD 20910, and the Southeast Region, NMFS, 9721 Executive Center Drive N, St. Petersburg, FL 33702.

FOR FURTHER INFORMATION CONTACT: Kimberly Skrupky, Office of Protected Resources, NMFS, (301) 713-2055, ext. 163.

SUPPLEMENTARY INFORMATION: Section 101(a)(5)(A) of the MMPA (16 U.S.C. 1361 et seq.) directs NMFS to allow, on request, the incidental, but not intentional, taking of small numbers of marine mammals by U.S. citizens who engage in a specified activity (other than commercial fishing) within a specified geographical region, if certain findings are made and regulations are issued. Under the MMPA, the term “taking” means to harass, hunt, capture, or kill or to attempt to harass, hunt, capture or kill marine mammals.

Permission may be granted if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat, and on the availability of the species for subsistence uses, paying particular attention to rookeries, mating grounds, and areas of similar significance. The regulations must include requirements pertaining to the monitoring and reporting of such taking. Regulations governing the taking of bottlenose and spotted dolphins incidental to oil and gas structure removal activities in the Gulf of Mexico were published on August 1, 2002 (67 FR 49869), and remain in effect until February 2, 2004. Issuance of these letters of authorization are based on a finding that

the total takings will have a negligible impact on the bottlenose and spotted dolphin stocks of the Gulf of Mexico.

Letters of Authorization were issued to:

(1) Comstock Offshore, LLC, Chase Tower, 600 Travis, Suite 6375, Houston, TX 77002, on May 08, 2003;

(2) Spinnaker Exploration Company, LLC., 1200 Smith Street, Suite 800, Houston, TX 77002, on May 22, 2003;

(3) J.M. Huber Corporation, 11451 Katy Freeway, Suite 400, Houston, TX 77079 on May 22, 2003;

(4) Torch Energy Services, Inc., 1221 Lamar, Suite 1600, Houston, TX 77010-3039, on June 13, 2003.

Dated: June 20, 2003.
Laurie K. Allen,
Acting Office Director, Office of Protected Resources, National Marine Fisheries Service.

[FR Doc. 03-16218 Filed 6-25-03; 8:45 am]

BILLING CODE 3510-22-S